MARINE MAMMAL COMMISSION

Sunshine Act Notice

Time and Date: The Marine Mammal Commission and its Committee of Scientific Advisors on Marine Mammals will meet on Tuesday, 9 December 2008, from 8:30 a.m. to 5:45 p.m.; Wednesday, 10 December 2008, from 8:30 a.m. to 5 p.m.; and Thursday, 11 December 2008, from 8:30 a.m. to 12:30 p.m. The Commission and the Committee will meet in executive session on Thursday, 11 December 2008, from 2:15 p.m. to 4 p.m.

Place: Caribe Hilton Hotel, Los Rosales Street, San Geronimo Grounds, San Juan, Puerto Rico 00901; telephone: 787-721-0303; fax: 787-722-2910.

Status: The executive session will be closed to the public in accordance with the provisions of the Government in the Sunshine Act (5 U.S.C. 552b) and applicable regulations. The session will be for internal discussions of process, personnel, and the budget of the Commission. All other portions of the meeting will be open to the public. Public participation will be allowed as time permits and as determined to be desirable by the Chairman.

Matters To Be Considered: The Commission and Committee will meet in public session to discuss a broad range of marine ecosystem and marine mammal matters with a focus on the wider Caribbean area and the Gulf of Mexico. Although subject to change, major issues that the Commission plans to consider at the meeting include the Marine Mammal Action Plan for the Caribbean region, risk factors and management and research needs for marine mammals in both the Caribbean and the Gulf of Mexico, and the role of the Marine Mammal Commission in international research and management efforts.

Contact Person for More Information: Timothy J. Ragen, Ph.D., Executive Director, Marine Mammal Commission, 4340 East-West Highway, Room 700, Bethesda, MD 20814, 301-504-0087; e-mail: tragen@mmc.gov.

Dated: November 6, 2008.
Timothy J. Ragen,
Executive Director.

[FR Doc. E8-26878 Filed 11-10-08; 11:15 am]

BILLING CODE 6820-31-M